DEPARTMENT OF JUSTICE

[OMB Number 1190-NEW]

Agency Information Collection Activities; Proposed eCollection; eComments Requested; Approval of a New Collection; Assessing Potential Benefits of Accessible Web Content for Individuals Who Are Blind

AGENCY: Civil Rights Division, Department of Justice.

ACTION: 30-day notice.

SUMMARY: The Department of Justice (DOJ), Civil Rights Division, Disability Rights Section, will submit the following information collection request to the Office of Management and Budget (OMB) for review and approval in accordance with the Paperwork Reduction Act of 1995 (PRA). This proposed information collection was previously published in the Federal Register on June 30, 2016 at 81 FR 43249, on July 1, 2016, allowing for a 60 day public comment period.

DATES: Comments are encouraged and will be accepted for an additional 30 days until October 6, 2016.

FOR FURTHER INFORMATION CONTACT: If you have additional comments (especially on the estimated public burden or associated response time), suggestions, or need a copy of the proposed information collection instrument with instructions or additional information, please contact Rebecca B. Bond, Chief, Disability Rights Section, Civil Rights Division, by any one of the following methods: By email at DRS.PRA@usdoj.gov; by regular U.S. mail at Disability Rights Section, Civil Rights Division, U.S. Department of Justice, P.O. Box 2885, Fairfax, VA 22031-0885; by overnight mail, courier, or hand delivery at Disability Rights Section, Civil Rights Division, U.S. Department of Justice, 1425 New York Avenue NW., Suite 4039, Washington, DC 20005; or by phone at (800) 514-0301 (voice) or (800) 514-0383 (TTY) (the DRS Information Line). Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the function of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: New information collection.

2. The Title of the Form/Collection: Assessing Potential Benefits of Accessible Web Content for Individuals Who Are Blind.

3. The agency form number, if any, and the applicable component of the Department sponsoring the collection:

Form Number: None.

Component: The applicable component within the Department of Justice is the Disability Rights Section in the Civil Rights Division.

4. Affected public who will be asked to respond, as well as a brief abstract:

Affected public (Primary): Individuals who are blind.

Affected Public (Other): None.

Abstract: DOJ's Civil Rights Division, Disability Rights Section, is requesting PRA approval of a new information collection to assess potential benefits of accessible Web content to individuals who are blind and to inform future rulemaking under the Americans with Disabilities Act. DOJ proposes to have respondents who are blind interact with Web content that has high accessibility and low accessibility to assess any time savings that people who are blind experience when interacting with accessible Web content. The collection will also request additional information regarding challenges, if any, experienced by respondents while interacting with inaccessible Web content.

5. An estimate of the total number of respondents and the amount of time estimated for an average respondent to respond: An estimated 30 respondents will participate at three hours per respondent. All of the respondents will fully complete the collection.

6. An estimate of the total public burden (in hours) associated with the collection: The estimated public burden associated with this collection is 90 hours. It is estimated that respondents will take an average of three hours to complete the process. The burden hours for collecting respondent data sum to 90 hours (30 respondents × 3 hours = 90 hours).

If additional information is required contact: Jerri Murray, Department Clearance Officer, United States Department of Justice, Justice Management Division, Policy and Planning Staff, Two Constitution Square, 145 N Street NE., 3E.405B, Washington, DC 20530.

Dated: August 31, 2016.
Jerri Murray,
Department Clearance Officer for PRA, U.S. Department of Justice.

[FR Doc. 2016-21298 Filed 9-2-16; 8:45 am]

BILLING CODE 4410-13-P